DEPARTMENT OF COMMERCE

International Trade Administration

U.S. Electronic Education Fairs for China and India: Video Contest

AGENCY: International Trade Administration, Commerce.

ACTION: Notice.

SUMMARY: Chinese and Indian nationals studying at U.S. accredited colleges and universities are invited to submit short videos highlighting their experiences with U.S. higher education.

DATES: Contest submissions will be accepted from the date of this Notice until 3 p.m. EDT November 9, 2007. Winners will be posted on [or before] November 15, 2007.

ADDRESSES: Mail Submissions to Joshua Wu, U.S. Department of Commerce, Room 1202, 1401 Constitution Avenue, NW., Washington, DC 20230, Tel: (202) 482-2289.

FOR FURTHER INFORMATION CONTACT: Joshua Wu, U.S. Department of Commerce. Tel: (202) 482-2289; Jennifer Moll, U.S. Department of Commerce, Tel: (248) 508-8404; Keith Roth, U.S. Department of Commerce, Rm. 1104. Tel: (202) 482-5012.

SUPPLEMENTARY INFORMATION: The U.S. Electronic Education Fairs for China and India are part of a joint initiative between the U.S. Department of Commerce and the U.S. Department of State. The purpose of the initiative is to inform Chinese and Indian students who are interested in studying outside of their home countries about the breadth and depth of the higher education opportunities available in the United States.

To continue the success of LiuXueUSA (“Study Abroad USA”), a U.S. initiative launched in 2006 to promote U.S. higher education in China, and to promote a similar initiative that will be launched in India later this year, the U.S. Departments of Commerce and State are holding a video contest. The contest aims to find the most compelling stories of Chinese and Indian students studying at U.S. colleges and universities by inviting them to create videos up to 3 minutes about their experiences as international students and the impact that studying in the United States has had on their lives. The winning videos will be featured on either the LiuXueUSA or the upcoming India Web site. A DVD release will also follow, sharing these incredible stories with viewers across the globe, and encouraging the next generation of international students to come and experience the opportunities and benefits associated with studying in the United States.

Program Details and Rules:

• The contest will be open to all Chinese and Indian Nationals studying at U.S. institutions at both the undergraduate and graduate levels.

• American students may also participate in the filming and editing process.

• Videos should be no more than 3 minutes long.

• Videos should be submitted either on DVD via mail (see address above) or via email with a link to a site from which the video can be downloaded by November 19, 2007.

• Videos should be submitted in Adobe Flash format.

• A panel of U.S. Government (USG) officials from the Departments of State, Commerce, and Education will select the winning videos.

• Videos should cater to relevant audiences in China or India, including teachers, students, parents and counselors.

• All videos should have English subtitles.

• The USG will not alter or edit the submitted content in any way, and the students will retain the copyrights of the videos; the USG will be granted rights to use the videos for the purposes of this initiative.

• Only amateur submissions will be accepted and considered.

• No explicit content (sexual or other) will be accepted.

Themes: The videos should address one of the following topics:

• What makes U.S. education special for international students?

• What has been the most unique experience you have had as a foreign student?

• Studies aside, what is your favorite extracurricular activity?

• What have been your best and worst food experiences?

• How would you characterize your dorm/living experiences in the United States?

• How are you paying for your studies?

Winners

Winners will have their videos featured on one of the above-mentioned Web sites and released on DVD. Other potential opportunities for exposure may also be possible.

Contest submissions by Chinese and Indian students will be accepted and reviewed on a rolling basis.

Dated: October 5, 2007.
David Long,
Director, Office of Service Industries, International Trade Administration.

[FR Doc. E7-20265 Filed 10-12-07; 8:45 am]

BILLING CODE 3510-DR-P